DEPARTMENT OF TRANSPORTATION

Coast Guard

[USCG-2002-12224]

Navigation Safety Advisory Council

AGENCY: Coast Guard, DOT.

ACTION: Notice of meeting.

SUMMARY: The Navigation Safety Advisory Council (NAVSAC) will meet to discuss various issues relating to the safety of navigation. The meetings are open to the public.

DATES: NAVSAC will meet on Thursday and Friday, June 6 and 7, 2002, from 8:30 a.m. to 5 p.m., and on Saturday, June 8, 2002, from 8 a.m. to 12 noon. The meeting may close early if all business is finished. Written material and requests to make oral presentations should reach the Coast Guard on or before May 31, 2002. Requests to have material distributed to each member of the Council prior to the meeting should reach the Executive Director of NAVSAC along with 25 copies of the material on or before May 24, 2002.

ADDRESSES: NAVSAC will meet at The Eastland Park Hotel, 157 High Street, Portland, ME 04101. Send written material and requests to make oral presentations to Margie G. Hegy, Commandant (G-MW), U.S. Coast Guard Headquarters, 2100 Second Street SW., Washington, DC 20593-0001. This notice is available on the Internet at http://dms.dot.gov.

FOR FURTHER INFORMATION CONTACT: Margie G. Hegy, Executive Director of NAVSAC, telephone 202-267-0415, fax 202-267-4700.

SUPPLEMENTARY INFORMATION: Notice of this meeting is given under the Federal Advisory Committee Act, 5 U.S.C. App. 2.

Agenda of Meeting

The agenda includes the following:

(1) Maritime security update and member information exchange.

(2) Update on the Marine Transportation System (MTS) Initiative.

(3) Overview/Update on Navigation Technology.

(4) Towing Industry input to NAVSAC's Position on Barge Lighting.

(5) Status report on ballast water issues.

(6) Acceleration of Automatic Identification System (AIS) Implementation.

Procedural

All meetings are open to the public. Please note that the meeting may close early if all business is finished. At the Chair's discretion, members of the public may make oral presentations during the meetings. If you would like to make an oral presentation, please notify the Executive Director no later than May 31, 2002. Written material for distribution at a meeting should reach the Coast Guard no later than May 31, 2002. If you would like a copy of your material distributed to each member of the Council in advance of the meeting, please submit 25 copies to the Executive Director no later than May 24, 2002.

Information on Services for Individuals With Disabilities

For information on facilities or services for individuals with disabilities or to request special assistance at the meetings, contact the Executive Director as soon as possible.

Dated: May 2, 2002.
Jeffrey P. High,
Director of Waterways Management.

[FR Doc. 02-12026 Filed 5-13-02; 8:45 am]

BILLING CODE 4910-15-P